DEPARTMENT OF TRANSPORTATION

Office of the Secretary

[Docket: DOT-OST-2012-0078]

Notice of Request for Renewal of Previously Approved Collection; Short Term Lending Program—Application for Loan Guarantee

AGENCY: Office of the Secretary, Department of Transportation (DOT).

ACTION: Notice and request for comments.

SUMMARY: In compliance with the Paperwork Reduction Act of 1995, Public Law 104-13, (44 U.S.C. 3501 et seq.) this notice announces that the Information Collection Request, abstracted below, will be forwarded to the Office of Management and Budget for the renewal of the Short Term Lending Program—Application for Loan Guarantee. A 60 day Federal Register Notice (77 FR 14459) was published March 9, 2012 (DOT-OST 2008-0244). The agency did not receive any comments.

DATES: Written comments should be submitted by July 2, 2012 and sent to OMB.

FOR FURTHER INFORMATION CONTACT: Nancy Strine, Manager Financial Assistance Division, Office of Small and Disadvantaged Business Utilization, Office of the Secretary, U.S. Department of Transportation, 1200 New Jersey Avenue SE., Room W56-448, Washington, DC 20590. Phone number 202-366-1930. Fax number 202-366-7228. Office hours are from 8:00 a.m. to 4:30 p.m., Monday through Friday, except Federal holidays.

Comments: Comments should be sent to OMB: Attention DOT/OST Desk Officer, Office of Information and Regulatory Affairs, Office of Management and Budget, Docket Library, 725 17th Street NW., Washington, DC 20503 or fax to: 202-395-5806. Please make reference to OMB Control No. 2104-0555 Docket DOT-OST-2012-0078.

SUPPLEMENTARY INFORMATION:

Title: Short Term Lending Program—Application for Loan Guarantee.

OMB Control No: 2105-0555.

Number of Respondents: 100.

Number of Responses: 100.

Total Annual Burden: 1400.

Abstract: OSDBU's Short Term Lending Program (STLP) offers certified Disadvantaged Business Enterprises (DBEs) and other certified Small Businesses (8a, women-owned, small disadvantaged, HUBZone, veteran owned, and service disabled veteran owned) the opportunity to obtain short term working capital at variable interest rates for transportation-related projects. The STLP provides Participating Lenders (PLs) a guarantee, up to 75%, on a revolving line of credit up to a $750,000 maximum. These loans are provided through lenders that serve as STLP Participating Lenders (PLs). The term on the line of credit is up to one (1) year, which may be renewed for five (5) years. A potential or renewal STLP participant must submit a guaranteed loan application package.

This collection renewal combines two applications, the former “Short-term Lending Program Application for a New Loan Guarantee” and the “Application for Loan Guarantee Renewal” into one Short Term Lending Program Application for a Loan Guarantee. There should no longer be any confusion since a set of explicit instructions has been added to the application. All attempts have been made to make it easier to read, understand, and use. The application form is now a PDF fillable form. The information collected is used to determine the applicant's eligibility and is necessary to approve or deny a loan. We are required to publish this notice in the Federal Register by the Paperwork Reduction Act of 1995.

Respondents: Certified Disadvantaged Business Enterprises (DBEs) and other certified Small Businesses (8a, women-owned, small disadvantaged, HUBZone, veteran owned, and service disabled veteran owned) interested in financing their transportation-related contracts.

DOT Form 2301-1(REV.1). Short Term Lending Program Application for Loan Guarantee: A potential or renewal STLP participant must submit a guaranteed loan application package. The guaranteed loan application includes the STLP application and supporting documentation to be collected from the checklist in the application. The application may be obtained directly from OSDBU, the Regional Small Business Transportation Resource Centers, from a PL, or online from the agency's Web site, currently at http://www.osdbu.dot.gov/financial/stlp.cfm.

Respondents: 100.

Frequency: Once.

Estimated Average Burden per Response: 2 hours.

Estimated Total Annual Burden Hours: 200 hours.

Supporting documentation. Required documentation shall include, but is not limited to, the following items:

a. Business, trade, or job performance reference letters;

b. DBE or other eligible certification letters;

c. Aging report of receivables and payables;

d. Business tax returns;

e. Business financial statements;

f. Personal income tax returns;

g. Personal financial statements;

h. Schedule of work in progress (WIP);

i. Signed and dated copy of transportation-related contracts;

j. Business debt schedule;

k. Cash flow projections;

l. Owner(s) and a key management resumes.

Respondents: 100.

Frequency: Once.

Estimated Average Burden per Response: 12 hours.

Estimated Total Annual Burden Hours: 1200 hours.

Title: STLP—Participating Lender (PL) forms.

Number of Respondents: 100.

Number of Responses: 100.

Total Annual Burden: 2925 hours.

Respondents: Participating Lenders that are in the process or have entered into cooperative agreements with DOT's OSDBU under 49 CFR part 22 DOT-OST-2008-0236 entitled, “Short Term Lending Program”.

Abstract: The Office of the Secretary, Office of Small and Disadvantaged Business Utilization (OSDBU), invites public comments on our intention to request the Office of Management and Budget's (OMB) approval to renew a collection of the STLP Participating Lender (PL) forms. The information collected administers the loans guaranteed under the STLP. The information collected keeps the Participating Lender's (PLs) in compliance with the terms established in the Cooperative Agreement between DOT and the PLs. Every attempt was made to make these forms easier to read, understand, and use.

This renewal collection involves the use of the “Short Term Lending Program Bank Verification Loan Activation Form”; “Short Term Lending Program Bank Acknowledgement Extension Request Form”; “Short Term Lending Program Bank Acknowledgement Loan Close-Out Form”; “Guaranty Loan Status Report”; “Pending Loan Status Report”; “Drug-Free Workplace Act Certification for a Grantee Other than an Individual”; “Certification Regarding Lobbying for Contracts, Grants, Loans, and Cooperative Agreements”; “Office of Small and Disadvantaged Business Utilization U.S. Department of Transportation Short Term Lending Program Certification Regarding Debarment, Suspension”; “Cooperative Agreement between the U.S. Department of Transportation and the Participating Lender”; and “U.S. Department of Transportation Office of Small and Disadvantaged Utilization Short Term Lending Program Guarantee Agreement”.

DOT Form 2303-1. Short-Term Lending Program Bank Verification Loan Activation Form. The PL Respondent must submit to OSDBU a Loan Activation Form that indicates the date in which the loan has been activated.

Respondents: 100.

Frequency: Annually, up to five years.

Estimated Average Burden per Response: ½ hour.

Estimated Total Annual Burden Hours: 50 hours.

DOT Form 2310-1. Short-Term Lending Program Bank Acknowledgement Extension Request Form. An extension of the original loan guarantee for a maximum period of ninety (90) days may be requested, in writing, by the PL Respondent using the STLP Extension Request Form.

Respondents: 100.

Frequency: Annually, up to five years.

Estimated Average Burden per Response: ½ hour.

Estimated Total Annual Burden Hours: 50 hours.

DOT Form 2304-1. Short-Term Lending Program Bank Acknowledge Loan Close-Out. The PL Respondent must submit to OSDBU a Loan Close-Out Form upon full repayment of the STLP loan or when the loan guarantee expires.

Respondents: 100.

Frequency: Annually, up to five years.

Estimated Average Burden per Response: ½ hour.

Estimated Total Annual Burden Hours: 50 hours.

DOT Form 2305-1. Guaranty Loan Status Report. PL Respondent submits a monthly status of active guaranteed loans to OSDBU.

Respondents: 100.

Frequency: Monthly.

Estimated Average Burden per Response: 1 hour.

Estimated Total Annual Burden Hours: 1200 hours.

DOT Form 2306-1. Pending Loan Status Report. PL Respondent submits monthly loan(s) in process report to OSDBU.

Respondents: 100.

Frequency: Monthly.

Estimated Average Burden per Response: 1 hour.

Estimated Total Annual Burden Hours: 1200 hours.

DOT Form 2307-1. Drug-Free Workplace Act Certification for a Grantee Other than an Individual Form. The PL certifies it is a drug-free workplace by executing this certification.

Respondents: 100.

Frequency: Once.

Estimated Average Burden per Response: 15 minutes.

Estimated Total Annual Burden Hours: 25 hours.

DOT Form 2308-1. Certification Regarding Lobbying for Contracts, Grants, Loans, and Cooperative Agreement. PL Respondent must certify that no Federal funds will be utilized for lobbying by executing this form.

Respondents: 100.

Frequency: Once.

Estimated Average Burden per Response: 15 minutes.

Estimated Total Annual Burden Hours: 25 hours.

DOT Form 2309-1. Certification Regarding Debarment, Suspension Form. The PL Respondent must not currently be debarred or suspended from participation in a government contract or delinquent on a government debt by submitting a current SBA Form 1624 or its equivalent.

Respondents: 100.

Frequency: Once.

Estimated Average Burden per Response: 15 minutes.

Estimated Total Annual Burden Hours: 25 hours.

DOT Form 2313-1. Cooperative Agreement between the United States Department of Transportation and the Bank (Participating Lender). This is the official agreement between the U.S. DOT and the Participating Lender (Bank) which spells out the terms; deliverables; audit, investigation, and review; record retention; duration of agreement; expiration of agreement; suspension of agreement; termination; DOT's representative; and miscellaneous conditions.

Respondents: 100.

Frequency: Every two years.

Estimated Average Burden per Response: 1 hour.

Estimated Total Annual Burden Hours: 100 hours.

DOT Form 2313-2. Cooperative Agreement between the United States Department of Transportation and the Community Development Financial Institution (CDFI). This is the official agreement between the U.S. DOT and the Community Development Financial Institution (CDFI), an eligible Participating Lender or which spells out the terms; Deliverables; Audit, Investigation, and Review; Record Retention; Duration of Agreement; Expiration of Agreement; Suspension of Agreement; Termination; DOT's Representative; and Miscellaneous Conditions.

Respondents: 100.

Frequency: Every two years.

Estimated Average Burden per Response: 1 hour.

Estimated Total Annual Burden Hours: 100 hours.

DOT Form 2314-1. Department of Transportation Office of Small and Disadvantaged Business Utilization (OSDBU) Short Term Lending Program Guarantee Agreement Form. This document is the seventy-five (75%) loan guarantee from the U.S. Department of Transportation to the specific Participating Lender Respondent. It also contains Annex A which is the Participating Lender's default mechanism.

Respondents: 100.

Frequency: Every year.

Estimated Average Burden per Response: 1 hour.

Estimated Total Annual Burden Hours: 100 hours.

Comments are invited on: whether the proposed collection renewal of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, on May 25, 2012.
Patricia Lawton,
PRA Program Manager, Office of the Secretary, Department of Transportation.

[FR Doc. 2012-13208 Filed 5-30-12; 8:45 am]

BILLING CODE 4910-9X-P